DEPARTMENT OF HEALTH AND HUMAN SERVICES

Health Resources and Services Administration

National Vaccine Injury Compensation Program; List of Petitions Received

AGENCY: Health Resources and Services Administration (HRSA), Department of Health and Human Services (HHS).

ACTION: Notice.

SUMMARY: HRSA is publishing this notice of petitions received under the National Vaccine Injury Compensation Program (the Program), as required by the Public Health Service (PHS) Act, as amended. While the Secretary of HHS is named as the respondent in all proceedings brought by the filing of petitions for compensation under the Program, the United States Court of Federal Claims is charged by statute with responsibility for considering and acting upon the petitions.

FOR FURTHER INFORMATION CONTACT: For information about requirements for filing petitions, and the Program in general, contact Lisa L. Reyes, Clerk of Court, United States Court of Federal Claims, 717 Madison Place NW, Washington, DC 20005, (202) 357-6400. For information on HRSA's role in the Program, contact the Director, National Vaccine Injury Compensation Program, 5600 Fishers Lane, Room 08W-25A, Rockville, Maryland 20857; 1-800-338-2382, or visit our website at: http://www.hrsa.gov/vaccinecompensation/index.html.

SUPPLEMENTARY INFORMATION: The Program provides a system of no-fault compensation for certain individuals who have been injured by specified childhood vaccines. Subtitle 2 of title XXI of the PHS Act, 42 U.S.C. 300aa-10 et seq., provides that those seeking compensation are to file a petition with the United States Court of Federal Claims and to serve a copy of the petition to the Secretary of HHS, who is named as the respondent in each proceeding. The Secretary has delegated this responsibility under the Program to HRSA. The Court is directed by statute to appoint special masters who take evidence, conduct hearings as appropriate, and make initial decisions as to eligibility for, and amount of, compensation.

A petition may be filed with respect to injuries, disabilities, illnesses, conditions, and deaths resulting from vaccines described in the Vaccine Injury Table (the table) set forth at 42 CFR 100.3. This table lists for each covered childhood vaccine the conditions that may lead to compensation and, for each condition, the time period for occurrence of the first symptom or manifestation of onset or of significant aggravation after vaccine administration. Compensation may also be awarded for conditions not listed in the table and for conditions that are manifested outside the time periods specified in the table, but only if the petitioner shows that the condition was caused by one of the listed vaccines.

Section 2112(b)(2) of the PHS Act, 42 U.S.C. 300aa-12(b)(2), requires that “[w]ithin 30 days after the Secretary receives service of any petition filed under section 2111 the Secretary shall publish notice of such petition in the Federal Register.” Set forth below is a list of petitions received by HRSA on November 1, 2023, through November 30, 2023. This list provides the name of the petitioner, city, and state of vaccination (if unknown then the city and state of the person or attorney filing the claim), and case number. In cases where the Court has redacted the name of a petitioner and/or the case number, the list reflects such redaction.

Section 2112(b)(2) also provides that the special master “shall afford all interested persons an opportunity to submit relevant, written information” relating to the following:

1. The existence of evidence “that there is not a preponderance of the evidence that the illness, disability, injury, condition, or death described in the petition is due to factors unrelated to the administration of the vaccine described in the petition,” and

2. Any allegation in a petition that the petitioner either:

a. “[S]ustained, or had significantly aggravated, any illness, disability, injury, or condition not set forth in the Vaccine Injury Table but which was caused by” one of the vaccines referred to in the table, or

b. “[S]ustained, or had significantly aggravated, any illness, disability, injury, or condition set forth in the Vaccine Injury Table the first symptom or manifestation of the onset or significant aggravation of which did not occur within the time period set forth in the Table but which was caused by a vaccine” referred to in the table.

In accordance with section 2112(b)(2), all interested persons may submit written information relevant to the issues described above in the case of the petitions listed below. Any person choosing to do so should file an original and three (3) copies of the information with the Clerk of the United States Court of Federal Claims at the address listed above (under the heading FOR FURTHER INFORMATION CONTACT), with a copy to HRSA addressed to Director, Division of Injury Compensation Programs, Health Systems Bureau, 5600 Fishers Lane, 08W-25A, Rockville, Maryland 20857. The Court's caption (Petitioner's Name v. Secretary of HHS) and the docket number assigned to the petition should be used as the caption for the written submission. Chapter 35 of title 44, United States Code, related to paperwork reduction, does not apply to information required for purposes of carrying out the Program.

Carole Johnson,
Administrator.

List of Petitions Filed

1. Liza McAtee-Paxton, Lemon Grove, California, Court of Federal Claims No: 23-1898V

2. William Bryan, Louisville, Mississippi, Court of Federal Claims No: 23-1929V

3. Denise McClintock, Waynesboro, Pennsylvania, Court of Federal Claims No: 23-1935V

4. Laura Promer, Birmingham, Alabama, Court of Federal Claims No: 23-1938V

5. Sheri Lynn Lewis, San Bernardino, California, Court of Federal Claims No: 23-1939V

6. Michael Cummings, Saint Petersburg, Florida, Court of Federal Claims No: 23-1940V

7. Hannah Howerton, Boston, Massachusetts, Court of Federal Claims No: 23-1941V

8. Christina Frankos on behalf of M.F., Tampa, Florida, Court of Federal Claims No: 23-1946V

9. Patricia Primrose, Augusta, Georgia, Court of Federal Claims No: 23-1949V

10. Cheryl Lynn Jones, Fremont, Ohio, Court of Federal Claims No: 23-1950V

11. William Wickham, Windham, Maine, Court of Federal Claims No: 23-1951V

12. Morgan McCoy, Mequon, Wisconsin, Court of Federal Claims No: 23-1954V

13. Jesusa Sanchez, Rockaway Park, New York, Court of Federal Claims No: 23-1955V

14. Jackie Jackson, Dresher, Pennsylvania, Court of Federal Claims No: 23-1956V

15. Janice Paquette, Farmingdale, New York, Court of Federal Claims No: 23-1957V

16. Clyde Smith, Spring Valley, New York, Court of Federal Claims No: 23-1958V

17. Joel Cohn, Coral Springs, Florida, Court of Federal Claims No: 23-1959V

18. Amy Poulos, Pinehurst, North Carolina, Court of Federal Claims No: 23-1960V

19. Timothy P. Cope, Pittsburgh, Pennsylvania, Court of Federal Claims No: 23-1961V

20. John M. Decker, Ashburn, Virginia, Court of Federal Claims No: 23-1962V

21. Larry Yawn, Canal Winchester, Ohio, Court of Federal Claims No: 23-1964V

22. Scott Beinlich, Ephrata, Pennsylvania, Court of Federal Claims No: 23-1968V

23. Patrick Brown, Wauwatosa, Wisconsin, Court of Federal Claims No: 23-1970V

24. Mickie Lowe, Boston, Massachusetts, Court of Federal Claims No: 23-1973V

25. Margaret Williams, Harvey, Louisiana, Court of Federal Claims No: 23-1974V

26. Erin Materkowski, Wood River, Illinois, Court of Federal Claims No: 23-1976V

27. Michael Montagnino, Clermont, Florida, Court of Federal Claims No: 23-1977V

28. Abigail Lever, Barre, Vermont, Court of Federal Claims No: 23-1978V

29. Christopher Fox, Peru, Illinois, Court of Federal Claims No: 23-1979V

30. Ana Roma Santos, Concord/Walnut Creek, California, Court of Federal Claims No: 23-1980V

31. Bridget Hart on behalf of B. H., Jackson, Tennessee, Court of Federal Claims No: 23-1981V

32. Timothy Severson, Woodruff, Wisconsin, Court of Federal Claims No: 23-1982V

33. Christina Lane, Dale City, Virginia, Court of Federal Claims No: 23-1988V

34. Tierra Cole, Petersburg, Virginia, Court of Federal Claims No: 23-1990V

35. Kristi Norcross, Boston, Massachusetts, Court of Federal Claims No: 23-1991V

36. Melissa Brady, Dresher, Pennsylvania, Court of Federal Claims No: 23-1992V

37. Mattie Stearns, Carpentersville, Illinois, Court of Federal Claims No: 23-1995V

38. Maureen Cummings, Sarasota, Florida, Court of Federal Claims No: 23-2003V

39. Carmen Scalesci, Staten Island, New York, Court of Federal Claims No: 23-2004V

40. Chrissy Hudson, Blacklick, Ohio, Court of Federal Claims No: 23-2005V

41. Doug Meece, Walton, Kentucky, Court of Federal Claims No: 23-2006V

42. Jennifer B. Bolognesi, Durham, North Carolina, Court of Federal Claims No: 23-2007V

43. Mary Curry, Glasgow, Kentucky, Court of Federal Claims No: 23-2008V

44. Linda M. Moyd-Hills, Beaufort, South Carolina, Court of Federal Claims No: 23-2009V

45. Valerie Snaman Stout, District Heights, Maryland, Court of Federal Claims No: 23-2010V

46. Tyler McCormick, Cape May, New Jersey, Court of Federal Claims No: 23-2011V

47. Ricky Carter, San Antonio, Texas, Court of Federal Claims No: 23-2012V

48. Jacky Kwong, Atlanta, Georgia, Court of Federal Claims No: 23-2013V

49. Charles Eller, Warrenton, Missouri, Court of Federal Claims No: 23-2014V

50. Shannon Callahan on behalf of R.K., Phoenix, Arizona, Court of Federal Claims No: 23-2015V

51. Clarence Peacock, Griffith, Indiana, Court of Federal Claims No: 23-2016V

52. Paul Hinsch, Waterford, Connecticut, Court of Federal Claims No: 23-2017V

53. Gail Sears, Niagara Falls, New York, Court of Federal Claims No: 23-2018V

54. Chris Strickland and Kirsten Strickland on behalf of E.S., Phoenix, Arizona, Court of Federal Claims No: 23-2019V

55. Nancy St. Clair-Lytle, Hinckley, Minnesota, Court of Federal Claims No: 23-2020V

56. Eva Trivino-Acuna, Sugar Land, Texas, Court of Federal Claims No: 23-2022V

57. Candice Matthews, Jeffersonville, Indiana, Court of Federal Claims No: 23-2023V

58. Delby Pool, Sarasota, Florida, Court of Federal Claims No: 23-2024V

59. Lynne Congdon, Swiftwater, Pennsylvania, Court of Federal Claims No: 23-2025V

60. Linda J. Smith, Red Wing, Minnesota, Court of Federal Claims No: 23-2029V

61. Jerome Fredericks, Bishop, California, Court of Federal Claims No: 23-2030V

62. Ashley Barber, Boston, Massachusetts, Court of Federal Claims No: 23-2031V

63. Alyson Fincke, East Islip, New York, Court of Federal Claims No: 23-2033V

64. Beth A. George, Charleston, West Virginia, Court of Federal Claims No: 23-2034V

65. Erica Ayers on behalf of G.A., Granger, Indiana, Court of Federal Claims No: 23-2037V

66. Sarah Schwob, Silver Spring, Maryland, Court of Federal Claims No: 23-2038V

67. Christina Valentine, Minneapolis, Minnesota, Court of Federal Claims No: 23-2041V

68. Lindell Ellis, Morganville, New Jersey, Court of Federal Claims No: 23-2043V

69. Timothy Holt, Columbia, Tennessee, Court of Federal Claims No: 23-2044V

70. Lorraine Frierson on behalf of Terry Frierson, Deceased, East Greenbush, Nebraska, Court of Federal Claims No: 23-2046V

71. Lisa Starita, Long Beach, Mississippi, Court of Federal Claims No: 23-2048V

72. Carroll Simmons, Boston, Massachusetts, Court of Federal Claims No: 23-2049V

73. Donna Fogelstrom, Fort Smith, Arkansas, Court of Federal Claims No: 23-2050V

74. Patricia Cravotta, Queens, New York, Court of Federal Claims No: 23-2051V

75. Rebecca Aguilar, Bradenton, Florida, Court of Federal Claims No: 23-2052V

76. Rhonda Bruxvoort, Dresher, Pennsylvania, Court of Federal Claims No: 23-2053V

77. Abdikhaliq Abdi, Edina, Minnesota, Court of Federal Claims No: 23-2054V

78. Tracie Powers on behalf of N.S., Deceased, Columbia, South Carolina, Court of Federal Claims No: 23-2055V

79. Timothy S. Budzon and Kimberly Budzon on behalf of A.T.B., Huntsville, Alabama, Court of Federal Claims No: 23-2056V

[FR Doc. 2023-28971 Filed 1-3-24; 8:45 am]

BILLING CODE 4165-15-P